DEPARTMENT OF JUSTICE

National Institute of Corrections

Solicitation for a Cooperative Agreement—Critical Issues in Managing Women Offenders

AGENCY: National Institute of corrections, Department of Justice.

ACTION: Solicitation for a cooperative agreement.

SUMMARY: The Department of Justice (DOJ), National Institute of Corrections (NIC), announces the availability of funds in FY 2000 for a cooperative agreement to develop a 24-36 hour curriculum on Critical Issues in Managing Women Offenders. The cooperative agreement represents the first part of a two-phased project to develop and deliver the curriculum in the next 15 months. NIC will award this project in two parts: in the current year (FY 2000), NIC will award a cooperative agreement for a six month project to develop the curriculum. Based on satisfactory performance in the development phase, in FY 2001 NIC will award a supplement to deliver the curriculum as a regional training program at two different locations. $50,000 is available for part one of the project, and $50,000 will be available in FT 2001 for training program delivery under a regional partnership format. Regional partnerships are funded in part by participating agencies. The funding for FY 2001 is contingent on congressional approval of the federal budget at the beginning of the fiscal year.

A cooperative agreement is a form of assistance relationship where the National Institute of Corrections is substantially involved during the performance of the award. An award is made to an organization that will, in concert with the Institute, provide a clearer articulation of gender-responsive strategies which are grounded in current theory and research, drawn from different relevant disciplines and agencies, and applied to the realities of correctional practice in prisons, jails, and community corrections. No funds are transferred to state or local governments.

Background

Women offenders and related gender issues are gaining increased focus from policy makers in corrections for numerous reasons. During the last decade, the women offender population has nearly tripled in every sector of corrections. Changes in mandatory sentencing for drug offenders on the federal and state levels are resulting in larger numbers of women serving longer periods of time in correctional facilities. A variety of critical issues such as cross-gender supervision, appropriate relationships between staff and offenders, management of population growth, parity in programming, and appropriate interventions are increasing in numbers and visibility within the criminal justice community and with the public, many due to residual court action.

NIC has a five year history of designing and delivering a seminar on Critical Issues in Managing Women Offenders. The first seminar occurred in July, 1994; a group of highly motivated and experienced practitioners convened to consider the issues facing them in promoting more effective correctional practice with women offenders. Over time, through four seminars, the program has solidified its focus on policy makers and top managers as the primary audience. Its purpose is to provide a solid grounding in policy and practice issues which face criminal justice agencies in addressing the unique circumstances and needs of women offenders from a system-wide perspective. Participants include agency administrators and deputy directors from jails, community corrections and prisons; judges, prosecutors, public defenders, and other court personnel. Participants attend as individuals and not as agency teams.

The goals of the seminar (as defined for the April, 1999, session) were to:

• Better understand and articulate the emerging and critical issues to consider in shaping policy for women offenders;

• Be able to identify the benefits of applying a systems perspective in planning for women offenders;

• Have increased knowledge of the information and resource (research, expertise, and practical strategies) available to address women offender issues and how to access them;

• Articulate a vision for improving criminal justice policy and practice regarding women offenders in their jurisdiction and develop three action steps for moving toward that vision.

Based on the success of this program, NIC seeks to expand its capacity to deliver the seminar through a multi-state regional format. The audience will remain individuals from across the system who are policy makers.

NIC assumes that the successful applicant will review the materials developed for the prior 5 seminars including the agendas, participant manuals and handouts, and records of meeting, and will work closely with the Project Manager in designing the curriculum.

Purpose

The National Institute of Corrections is seeking an applicant organization or team which offers curriculum design expertise, overall knowledge of women offenders and corrections, experience with training of policy level participants, expertise in competency-based curriculum including writing, editing, formation, assembling and packaging; and knowledge of adult learning theory and training.

The purpose of the cooperative agreement is:

(1) To fully develop and refine one (1) 24-36 hour training curriculum package on Critical Issues in Managing Women Offenders. The curriculum will have the following elements:

a. Instructors Guide with Lesson Plans. This must include performance objectives that specify the knowledge or skills/competencies that will be obtained by the participants. They must be detailed to the degree that other trainers with some experience in the topic can use them to deliver training.

b. Computer Generated View Graphs created in Corel Presentations of key points that will be emphasized by the trainers. The lesson plans must include a small representation of the full size view graph and indicate where and when they are used. As appropriate, some of the view graphs may be designed as handouts to participants. Other multi-media or visual aids (such as news print, videos, etc.) used to support the delivery of lesson modules must be coordinated and indicate when and where to be used.

c. Participant Manual and Materials that correlate with each module, topic by topic, as appropriate to deliver the training. These materials may include overviews, published articles (if copyrighted must obtain copyright release), check lists, key points outlines, examples of instruments, reports and other materials used by participants to perform their work.

d. Evaluation Questions and Strategies (if appropriate) that will be used pre or post delivery for the curriculum. These should directly relate to the objectives in each module.

e. Resource Materials, such as video and audio tapes, books, journals and other information to support the objectives of the curriculum.

(2) To deliver the curriculum in two regional seminars in the spring and summer, 2001, under a supplemental cooperative agreement.

Work to be Performed by the Service Provider: The following represents the kinds of work activity required by the project and the expectations of the relationship between NIC, the Program Manager and the service provider.

• Consult with the NIC Program Monitor on an agreed time line to assure progress and understanding of the scope of work.

• Conduct a review of the Critical Issues in Managing Women Offenders agendas, participant materials, and records of meeting.

• Thoroughly review any other existing training materials developed by NIC, OJP, or other agencies for relevant parts that could be re-written for application to this project.

• Conduct necessary planning with content experts (selections with input from Program Manager) to generate the framework, concepts, modules, content, strategies and performance objectives. (All of the above is subject to final approval by the Program Manager.)

• Assign and coordinate writing, development and revisions of the modules and content areas for the curriculum including multi-media materials.

• Develop, edit, revise, format and package the curriculum, lesson plans, and other course materials.

• Submit preliminary draft for review by the Program Manager per the specified time line. Make revisions and submit second draft if requested.

• Prepare all materials using WordPerfect 7.0 or higher word processing software and Corel Presentations (visuals) and submit final copies of all materials on 3.5″ computer disks (or zip drive disks) and in “camera ready” hard copy format (4 paper copies).

Application Requirements

Applicants must prepare a proposal that describes their plan to provide the project outcomes. The plan must include goals and objectives, methodology, deliverables, management plan, an overall project budget for the full two years, and a budget and budget narrative for the first 6 month phase. Applicants must identify their key project staff and the relevant expertise of each, and address the manner in which they would perform all tasks in collaboration with the NIC Project Manager. Proposals are limited to twenty-five double-spaced pages in length, not including resumes, other addenda, and SF-424 forms. Please note that the Standard Form 424, Application for Federal Assistance, submitted with the proposal must contain the cover sheet, budget, budget narrative, assurances, and management plan for the FY 2000 funded portion only, for a maximum of $50,000.

Authority: Public Law 93-415.

Funds Available

Project funds are limited to a maximum total of $100,000 for both direct and indirect costs for two years. A grant award of $50,000 will be made in FY 2000, and a supplemental award of $50,000 will be made in FY 2001. (Contingent on FY 2001 congressional budget approval) NIC is committed to funding the full fifteen month project and project activity must be completed within 15 months of the date of the award. Funds may only be used for activities that are linked to the desired outcomes of the project.

All products from this funding effort will be in public domain and available to interested agencies through the National Institute of Corrections.

Deadline for Receipt of Applications

Applications must be received by 4:00 p.m. on Friday, July 17, 2000. They should be addressed to: National Institute of Corrections, 320 First Street, NW., Room 5007, Washington, DC 20534, Attention: Administrative Officer. Hand delivered applications can be brought to 500 First Street, NW, Washington, DC 20534. The Front desk will call Bobbi Tinsley at (202) 307-3106, extension 0 for pickup.

Addresses and Further Information

Requests for the application kit, which consists of a copy of this announcement and copies of the required forms, should be directed to Judy Evens, Cooperative Agreement Control Office, National Institute of Corrections, 320 First Street, NW, Room 5007, Washington, DC 20534 or by calling (800) 995-6423, extension 159 or (202) 307-3106, extension 159. She can also be contacted by E-mail via jevens@bop.gov. All technical and/or programmatic questions concerning this announcement should be directed to Andie Moss at the above address or by calling (800) 995-6423 or (202) 307-3106, extension 140, or by E-mail via amoss@bop.gov. Application forms may also be obtained through the NIC website: http://www.nicic.org. (Click on “What's New” and then, “Cooperative Agreements.”)

Eligible Applicants

An eligible applicants is any state or general unit of local government, public or private agency, educational institution, organization, team, or individual with the requisite skills to successfully meet the outcome objectives of the project.

Review Considerations

Applications received under this announcement will be subjected to an NIC three to five member Peer Review Process.

Number of Awards: One (1).

NIC Application Number: 00P17. This number should appear as a reference line in the cover letter and also in box 11 of Standard Form 424.

The Catalog of Federal Domestic Assistance number is: 16.602.

Dated: June 2, 2000.
Morris L. Thigpen,
Director, National Institute of Corrections.

[FR Doc. 00-14671 Filed 6-8-00; 8:45 am]

BILLING CODE 4410-36-M